INTERNATIONAL TRADE COMMISSION

[Investigation No. TA-201-75 (Modification)]

Crystalline Silicon Photovoltaic Cells, Whether or Not Partially or Fully Assembled into Other Products: Advice on the Probable Economic Effect of Certain Modifications to the Safeguard Measure

AGENCY: United States International Trade Commission.

ACTION: Notice of investigation.

SUMMARY: Following receipt on December 6, 2019, of a request from the United States Trade Representative (USTR), the Commission instituted Investigation No. TA-201-75 (Modification), Crystalline Silicon Photovoltaic Cells, Whether or Not Partially or Fully Assembled Into Other Products: Advice on the Probable Economic Effect of Certain Modifications to the Safeguard Measure under section 204(a)(4) of the Trade Act of 1974 (Trade Act) to advise the President of the probable economic effect on the domestic crystalline silicon photovoltaic (CSPV) cell and module manufacturing industry of modifying the safeguard measure on imports of CSPV products, as described in Proclamation 9693 of January 23, 2018.

DATES:

January 6, 2020: Deadline for filing written submissions.

January 13, 2020: Deadline for filing responses to written submissions.

FOR FURTHER INFORMATION CONTACT: Project Leader Dylan Carlson of the Office of Industries (202-205-3457 or dylan.carlson@usitc.gov) or Deputy Project Leader Lauren Gamache of the Office of Economics (202-205-3489 or lauren.gamache@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired persons can obtain information on this matter by contacting the Commission's TDD terminal on 202-205-1810. Persons with mobility impairments who will need special assistance in gaining access to the Commission should contact the Office of the Secretary at 202-205-2000. General information concerning the Commission may also be obtained by accessing its website (https://www.usitc.gov). The public record for this investigation may be viewed on the Commission's electronic docket (EDIS) at https://edis.usitc.gov.

SUPPLEMENTARY INFORMATION:

Background.—On January 23, 2018, the President, pursuant to section 203 of the Trade Act (19 U.S.C. 2253), issued Proclamation 9693, imposing a safeguard measure on imports of CSPV products, in the form of (a) a tariff-rate quota (TRQ) on certain imports of solar cells not partially or fully assembled into other products and (b) an increase in duties on certain imports of modules. The proclamation was published in the Federal Register on January 25, 2018 (83 FR 3541). The measure took effect on February 7, 2018, for a period of four years, or through February 6, 2022. The President imposed the measure following receipt of a report from the Commission in November 2017 under section 202 of the Trade Act (19 U.S.C. 2252) that contained an affirmative determination, remedy recommendations, and certain additional findings (see Crystalline Silicon Photovoltaic Cells (Whether or not Partially or Fully Assembled into Other Products), investigation No. TA-201-75, USITC Publication 4739, November 2017).

Section 204(a)(4) of the Trade Act (19 U.S.C. 2254(a)(4)) requires the Commission, upon request of the President, to advise the President of its judgment as to the probable economic effect on the industry concerned of any reduction, modification, or termination of the action taken under section 203 of the Trade Act which is under consideration. In his letter of December 6, 2019, the USTR, under authority delegated by the President and pursuant to section 204(a)(4) of the Trade Act, requested that the Commission provide its advice regarding the probable economic effect on the domestic CSPV cell and module manufacturing industry of modifying the safeguard measure. Specifically, the USTR requested that the Commission analyze the effect of increasing the level of the tariff-rate quota applicable to imports of CSPV cells from the current 2.5 gigawatts (GW) to 4, 5, or 6 GW, without other changes to the remedy. As requested, the Commission will provide its report to the USTR by no later than 30 days from the date of the report currently being prepared by the Commission under section 204(a)(2) of the Trade Act (Investigation No. TA-201-75 (Monitoring), Crystalline Silicon Photovoltaic Cells, Whether or Not Partially or Fully Assembled into Other Products: Monitoring Developments in the Domestic Industry).

For further information concerning the conduct of this investigation and rules of general application, consult the Commission's Rules of Practice and Procedure, part 201, subparts A and B (19 CFR part 201), and part 206, subparts A and F (19 CFR part 206).

Limited disclosure of confidential business information (CBI).—The Commission may include CBI in the report it sends to the President and to the USTR. Additionally, all information, including CBI, submitted in this investigation may be disclosed to and used by (i) the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes.

The Commission will not release information which the Commission considers to be confidential business information unless the party submitting the confidential business information had notice, at the time of submission, that such information would be released by the Commission, or such party subsequently consents to the release of the information. The Commission will not otherwise disclose any CBI in a manner that would reveal the operations of the firm supplying the information.

The Commission will not release CBI obtained in this investigation to representatives of other interested parties under an administrative protective order (APO). Interested parties who may have obtained CBI under the APO issued in the ongoing Investigation No. TA-201-75 (Monitoring), Crystalline Silicon Photovoltaic Cells, Whether or Not Partially or Fully Assembled Into Other Products: Report on Monitoring of Developments in the Domestic Industry, should be aware that they may not use CBI obtained under the APO in that monitoring investigation in this modification proceeding. Such use in this modification proceeding will likely constitute a breach of the APO that they signed in the monitoring investigation. Any person with questions should contact the Office of the Secretary at 202-205-2000.

Written submissions.—Interested parties are invited to file written submissions concerning this investigation with the Commission. The Commission requests, in particular, that domestic producers of CSPV cells and/or modules provide in their written submissions estimates and projections for their production, capacity, number of production workers, and exports of cells and modules separately in 2019, 2020, and 2021, as well as any information, estimates, or projections on the price or production cost per watt of U.S. manufactured cells. In addition, the Commission requests that domestic producers describe how modifications to the TRQ, as described in USTR's request letter, would affect current and future investments in U.S. cell and module manufacturing. Written submissions must not exceed twenty (20) pages of textual material, double-spaced and singled-sided, when printed on pages measuring 8.5 × 11 inches. All written submissions must be addressed to the Secretary, and should be received not later than 5:15 p.m., January 6, 2020.

Persons wishing to have a summary of their written submission included in the report should include a summary along with their written submission and should specifically identify the summary as being for this purpose. Summaries should not include CBI. The summaries will be published in an appendix to the report. The summary may not exceed 500 words and should be in MS Word format or a format that can be easily converted to MS Word. The summary will be published as provided if it meets these requirements and is germane to the subject matter of the investigation. The Commission will list the name of the organization furnishing the summary and will include a link to the Commission's Electronic Document Information System (EDIS) where the full written submission can be found. The summary and additional exhibits with relevant factual information will not count toward the 20-page limit of the full written submission.

Interested parties are also invited to file a response to written submissions made by other interested parties. Such responses must not contain any new factual information, and must only address information and arguments in written submissions filed by other interested parties. Responses to written submissions must not exceed five (5) pages of textual material, double-spaced and singled-sided, when printed on pages measuring 8.5 x 11 inches. All responses to written submissions should be addressed to the Secretary, and must be received no later than 5:15 p.m., January 13, 2020.

All written submissions and subsequent responses must conform with the provisions of section 201.8 of the Commission's rules; any submissions that contain CBI must also conform with the requirements of section 201.6 of the Commission's rules. Any CBI that is provided may be included in the report that the Commission sends to the President and the U.S. Trade Representative. The Commission's Handbook on E-Filing, available on the Commission's website at https://edis.usitc.gov, elaborates upon the Commission's rules with respect to electronic filing. Persons with questions regarding electronic filing should contact the Office of the Secretary, Docket Services Division (202-205-1802).

Additional written submissions to the Commission, including requests pursuant to section 201.12 of the Commission's rules, will not be accepted unless good cause is shown for accepting such submissions, or unless the submission is pursuant to a specific request by a Commissioner or Commission staff.

Authority: This investigation is being conducted under the authority of section 204(a)(4) of the Trade Act of 1974; this notice is published pursuant to section 206.3 of the Commission's rules.

By order of the Commission.
Issued: December 18, 2019.
Lisa Barton,
Secretary to the Commission.

[FR Doc. 2019-27627 Filed 12-20-19; 8:45 am]

BILLING CODE 7020-02-P